DEPARTMENT OF COMMERCE

National Oceanic and Atmospheric Administration

[I.D. 081905A]

New England Fishery Management Council; Public Meeting; Correction

AGENCY: National Marine Fisheries Service (NMFS), National Oceanic and Atmospheric Administration (NOAA), Commerce.

ACTION: Notice of public meeting notice; correction.

DATES: The New England Fishery Management Council has changed the location of its 3-day Council meeting which will be held on September 13, 14, and 15, 2005. The meeting was initially announced in the Federal Register on August 24, 2005.

ADDRESSES: The meeting, previously scheduled at the Holiday Inn Express, Fairhaven, MA will now be held at the Providence Biltmore Hotel, 11 Dorrance Street, Providence, Rhode Island; telephone:(401) 421-0700.

FOR FURTHER INFORMATION CONTACT: Paul J. Howard, Executive Director, New England Fishery Management Council; telephone: (978)465-0492.

SUPPLEMENTARY INFORMATION: The initial meeting notice published on Wednesday, August 24, 2005. This document replaces the information regarding the location of the meeting. All other details remain unchanged.

Dated: August 31, 2005.
Emily Menashes,
Acting Director, Office of Sustainable Fisheries, National Marine Fisheries Service.

[FR Doc. E5-4841 Filed 9-2-05; 8:45 am]

BILLING CODE 3510-22-S